DEPARTMENT OF COMMERCE

National Oceanic and Atmospheric Administration

[I.D. 021102D]

Marine Mammals; File No. 775-1600-02

AGENCY: National Marine Fisheries Service (NMFS), National Oceanic and Atmospheric Administration (NOAA), Commerce.

ACTION: Issuance of permit amendment.

SUMMARY: Notice is hereby given that Michael Sissenwine, Northeast Fisheries Science Center, National Marine Fisheries Service, Room 312, 166 Water Street, Woods Hole, MA 02543, has been issued an amendment to scientific research Permit No. 775-1600-01.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371.

FOR FURTHER INFORMATION CONTACT: Amy Sloan or Ruth Johnson, (301)713-2289.

SUPPLEMENTARY INFORMATION: On January 16, 2002, notice was published in the Federal Register (67 FR 2198) that an amendment of Permit No. 775-1600, issued March 6, 2001 (66 FR 14135), had been requested by the above-named individual. The requested amendment has been granted under the authority of the Marine Mammal Protection Act of 1972, as amended (16 U.S.C. 1361 et seq.), and the Regulations Governing the Taking and Importing of Marine Mammals (50 CFR part 216).

The permit amendment authorizes the permit holder to capture, examine, measure, flipper tag (retain tissue from tagging), apply a “seal hat”, and photograph up to 200 gray seal (Halichoerus grypus) pups; blood sample 50 of the 200 pups captured; and VHF tag 30 of the 200 pups captured. These activities will occur in coastal Maine and Massachusetts for purposes of stock assessment.

Dated: February 19, 2002.
Ann D. Terbush,
Chief, Permits, Conservation and Education Division, Office of Protected Resources, National Marine Fisheries Service.

[FR Doc. 02-4671 Filed 2-26-02; 8:45 am]

BILLING CODE 3510-22-S